DEPARTMENT OF HOMELAND SECURITY

Federal Emergency Management Agency

[Docket ID: FEMA-2009-0001]

Agency Information Collection Activities: Submission for OMB Review; Comment Request

AGENCY: Federal Emergency Management Agency, DHS.

ACTION: Notice; 30-day notice and request for comments; revision of a currently approved information collection; OMB No. 1660-0073; FEMA Form 089-10, Narrative Statement, and FEMA Form 089-11, Performance Reports, and FEMA Form 089-12, Extensions/Budget Changes, and FEMA Form 089-13, Memorandum of Agreement Revisions, and FEMA Form 089-14, Self Evaluations, and FEMA Form 089-15, Task Force Deployment Data.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before May 20, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-6974.

FOR FURTHER INFORMATION CONTACT: Requests for additional information or copies of the information collection should be made to Director, Records Management Division, 1800 South Bell Street, Arlington, VA 20598-3005, facsimile number (202) 646-3347, or e-mail address FEMA-Information-Collections@dhs.gov.

SUPPLEMENTARY INFORMATION:

Collection of Information

Title: National Urban Search and Rescue Grant Program.

Type of information collection: Revision of a currently approved information collection.

OMB Number: 1660-0073.

Form Titles and Numbers: FEMA Form 089-10, Narrative Statement, and FEMA Form 089-11, Performance Reports, and FEMA Form 089-12, Extensions/Budget Changes, and FEMA Form 089-13, Memorandum of Agreement Revisions, and FEMA Form 089-14, Self Evaluations, and FEMA Form 089-15, Task Force Deployment Data.

Abstract: The information collection activity is the collection of financial, program and administrative information for US&R Sponsoring Organizations relating to preparedness and response Cooperative Agreement awards. This information includes a narrative statement that FEMA uses to evaluate a grantee's proposed use of funds, progress reports to monitor overall progress on managing FEMA grant program, extension or change requests used to consider changing or extending the time or the performance period of the preparedness or response cooperative agreement, evaluation and information to assess and ensure operational readiness and a memorandum of agreement between DHS/FEMA and the Sponsoring Organizations of US&R task forces.

Affected Public: State, Local or Tribal Government.

Estimated Number of Respondents: 28.

Frequency of Response: Semi-annually.

Estimated Average Hour Burden per Respondent: 17 Hours.

Estimated Total Annual Burden Hours: 476 hours.

Estimated Cost: There are no start-up, operational or other costs associated with this information collection.

Larry Gray,
Director, Records Management Division, Office of Management, Federal Emergency Management Agency, Department of Homeland Security.

[FR Doc. E9-9008 Filed 4-17-09; 8:45 am]

BILLING CODE 9110-69-P